TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following:

1. Lake Improvement Plan of 1990 and reservoir operating schedules

2. Subcommittee and working group reports

3. Public comments

The meeting is open to the public. Members of the public who wish to make oral public comments may do so during the Public comments portion of the agenda. Up to one hour will be allotted for the Public comments with participation available on a first-come, first-served basis. Speakers addressing the Council are requested to limit their remarks to no more than 5 minutes. Persons wishing to speak register at the door and are then called on by the Council Chair during the public comment period. Hand out materials should be limited to one printed page. Written comments are also invited and may be mailed to the Regional Resource Stewardship Council, Tennessee Valley Authority, 400 West Summit Hill Drive, WT 11A, Knoxville, Tennessee 37902-1499, or faxed to (865) 632-3146.

DATES: The meeting will be held on June 22, 2000, from 8 a.m. to 4 p.m. CDT.

ADDRESSES: The meeting will be held in Memphis, Tennessee, in the Embassy Hall at the Embassy Suites Hotel, 1022 South Shady Grove Road, Memphis, Tennessee 38120, and will be open to the public. Anyone needing special access or accommodations should let the contact below know at least a week in advance.

FOR FURTHER INFORMATION CONTACT: Sandra L Hill, 400 West Summit Hill Drive, WT 11A, Knoxville, Tennessee 37902-1499, (865) 632-2333.

Dated: June 2, 2000.
Kathryn J. Jackson,
Executive Vice President, River System Operations & Environment, Tennessee Valley Authority.

[FR Doc. 00-14650 Filed 6-8-00; 8:45 am]

BILLING CODE 8120-08-P